DEPARTMENT OF DEFENSE

Department of the Air Force

Notice of Record of Decision for the Environmental Impact Statement T-7A Recapitalization at Laughlin AFB, TX

AGENCY: Department of the Air Force, Department of Defense.

ACTION: Notice of availability of Record of Decision.

SUMMARY: On December 6, 2024, the Department of the Air Force (DAF) signed the Record of Decision (ROD) for the T-7A Recapitalization at Laughlin AFB, TX, Environmental Impact Statement.

ADDRESSES: Ms. Chinling Chen (AFCEC/CIE), Headquarters AETC Public Affairs; 100 H East Street, Suite 4; Randolph AFB, TX 78150. (210) 395-0979; chinling.chen@us.af.mil.

SUPPLEMENTARY INFORMATION: The DAF has decided to replace all T-38C aircraft at Laughlin AFB with up to 79 T-7A aircraft, and continue flying training programs at Laughlin AFB, TX. Initial delivery will be limited to 51 aircraft per the Secretary of the Air Force Strategic Basing Decision.

The DAF decision documented in the ROD was based on matters discussed in the Final Environmental Impact Statement, inputs from the public and regulatory agencies, and other relevant factors. The Final Environmental Impact Statement was made available to the public on June 21, 2024, through a Notice of Availability in the Federal Register (Volume 89, Number 120, Page 52040) with a waiting period that ended on July 22, 2024.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Tommy W. Lee,
Acting Air Force Federal Register Liaison Officer.

[FR Doc. 2024-30356 Filed 12-19-24; 8:45 am]

BILLING CODE 3911-44-P